DEPARTMENT OF COMMERCE

International Trade Administration

[A-357-812]

Honey from Argentina: Final Results of Antidumping Duty Administrative Review and Determination to Revoke Order in Part

AGENCY: Import Administration, International Trade Administration, Department of Commerce.

SUMMARY: On December 30, 2008, the Department of Commerce (the Department) published its preliminary results of the 2006-2007 administrative review of the antidumping duty order on honey from Argentina. This administrative review covers three firms which were selected as mandatory respondents, Asociacion de Cooperativas Argentinas (ACA), Patagonik S.A. (Patagonik), and Seylinco, S.A. (Seylinco), and one firm which was not selected as a mandatory respondent, Compania Inversora Platense S.A. (CIPSA). Based on our revised cost of production analysis, the final results margin for Patagonik has changed from the preliminary results. In addition, we are revoking the order with respect to Seylinco.

EFFECTIVE DATE: July 7, 2009.

FOR FURTHER INFORMATION CONTACT: Maryanne Burke for Seylinco, David Cordell for Patagonik, Deborah Scott for ACA and CIPSA, or Robert James, Office 7, Import Administration, International Trade Administration, U.S. Department of Commerce, 14th Street and Constitution Avenue, NW, Washington, DC 20230; telephone: (202) 482-5604, (202) 482-0408, (202) 482-2657 or (202) 482-0649, respectively.

SUPPLEMENTARY INFORMATION:

Background

On December 30, 2008, the Department published in the Federal Register the preliminary results of the administrative review of the antidumping duty order on honey from Argentina for the period December 1, 2006 to November 30, 2007. See Honey from Argentina: Preliminary Results of Antidumping Duty Administrative Review and Intent to Revoke Order in Part, 73 FR 79802 (December 30, 2008) (Preliminary Results).

On December 31, 2008, Patagonik filed a response to the section D supplemental questionnaire the Department had issued on November 19, 2008. On February 3, 2009, the Department issued Patagonik a second supplemental questionnaire for section D, to which Patagonik responded on March 2, 2009.

On February 9, 2009, Patagonik submitted what it termed a minor correction to its section B response. Specifically, Patagonik argued that due to a clerical error on one invoice, the color of the honey supplied to the customer differed from the color of the honey specified on the invoice. Patagonik argued this information was not new but rather was typical of a minor correction that would have been identified had the Department verified Patagonik's responses. Patagonik urged the Department to use this information because it was the most accurate information available. Petitioners (the American Honey Producers Association and Sioux Honey Association) objected to Patagonik's submission in a letter dated February 17, 2009. On February 18, 2009, and March 9, 2009, the Department issued supplemental questionnaires to Patagonik regarding its February 9, 2009, submission. Patagonik filed responses to these supplemental questionnaires on March 4, 2009, and March 23, 2009, respectively.

In response to the Department's invitation to comment on the Preliminary Results, petitioners, ACA, CIPSA, Patagonik, and Seylinco filed case briefs on April 8, 2009. Petitioners, Patagonik, and Seylinco submitted rebuttal briefs on April 20, 2009. In addition, Seylinco filed comments on petitioners' rebuttal brief on April 21, 2009.

Period of Review

The period of review (POR) is December 1, 2006 to November 30, 2007.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and Customs purposes, the Department's written description of the merchandise under this order is dispositive.

Determination to Revoke Order, in Part

The Department may revoke, in whole or in part, an antidumping duty order upon completion of a review under section 751 of the Tariff Act of 1930, as amended (the Act). While Congress has not specified the procedures that the Department must follow in revoking an order, the Department has developed a procedure for revocation that is described in 19 CFR 351.222. This regulation requires, inter alia, that a company requesting revocation must submit the following: (1) a certification that the company has sold the subject merchandise at not less than normal value (NV) in the current review period and that the company will not sell subject merchandise at less than NV in the future; (2) a certification that the company sold commercial quantities of the subject merchandise to the United States in each of the three years forming the basis of the request; and (3) an agreement to immediate reinstatement of the order if the Department concludes that the company, subsequent to the revocation, sold subject merchandise at less than NV. See 19 CFR 351.222(e)(1). Upon receipt of such a request, the Department will consider: (1) whether the company in question has sold subject merchandise at not less than normal value (NV) for a period of at least three consecutive years; (2) whether the company has agreed in writing to its immediate reinstatement in the order, as long as any exporter or producer is subject to the order, if the Department concludes that the company, subsequent to the revocation, sold the subject merchandise at less than NV; and (3) whether the continued application of the antidumping duty order is otherwise necessary to offset dumping. See 19 CFR 351.222(b)(2).

On December 31, 2007, pursuant to section 751(d) of the Act and 19 CFR 351.222(b)(2), Seylinco requested revocation of the antidumping duty order with respect to its sales of subject merchandise. Seylinco's request was accompanied by certification that it: (1) sold the subject merchandise at not less than NV during the current POR and will not sell the merchandise at less than NV in the future; (2) sold subject merchandise to the United States in commercial quantities for a period of at least three consecutive years; and (3) agreed to immediate reinstatement of the antidumping duty order, as long as any exporter or producer is subject to the order, if the Department concludes that, subsequent to the revocation, Seylinco sold the subject merchandise at less than NV.

In the Preliminary Results, we determined that Seylinco's request meets all of the criteria under 19 CFR 351.222(e)(1) and that revocation is warranted pursuant to 19 CFR 351.222(b)(2). See Preliminary Results, 73 FR at 79804-05 and Memorandum to Gary Taverman, “Request by Seylinco, S.A. for Revocation in the Antidumping Duty Administrative Review of Honey from Argentina,” dated December 19, 2008. We have not altered our findings for these final results. Therefore, we find that Seylinco qualifies for revocation of the antidumping duty order on honey from Argentina under 19 CFR 351.222(b)(2) and, accordingly, we are revoking the order with respect to subject merchandise exported by Seylinco.¹ For further discussion, see the accompanying Issues and Decision Memorandum at Comment 1.

¹ Only exports by Seylinco in which Seylinco is the first party with knowledge of the U.S. destination of the merchandise are covered by this revocation.

Effective Date of Revocation

The revocation of Seylinco applies to all entries of subject merchandise that are exported by Seylinco, and are entered, or withdrawn from warehouse, for consumption on or after December 1, 2007. The Department will order the suspension of liquidation ended for all such entries and will instruct U.S. Customs and Border Protection (CBP) to release any cash deposits or bonds. The Department also will instruct CBP to refund with interest any cash deposits on entries made on or after December 1, 2007.

Analysis of Comments Received

All issues raised in the case and rebuttal briefs by parties to this administrative review are addressed in the Issues and Decision Memorandum. A list of issues addressed in the Issues and Decision Memorandum is appended to this notice. The Issues and Decision Memorandum is on file in the Central Records Unit (CRU), Room 1117 of the main Commerce Building and can be accessed directly on the web at http://ia.ita.doc.gov/frn/index.html.

Changes Since the Preliminary Results

Based on the information Patagonik submitted in response to the Department's supplemental section D questionnaires, we have made adjustments to the beekeepers' and middleman's costs. We relied on the cost data submitted by the two beekeeper respondents and the middleman in their cost questionnaire responses, except as follows.

1. Because the middleman was unable to provide financial statements or corporate tax returns for 2007, we used the middleman's verified cost data from the 2004-2005 new shipper review of honey from Argentina. See Memorandum to the File, “Administrative Review of Honey from Argentina,” dated March 30, 2009, where the Department placed Attachment A of the 2004-2005 Honey from Argentina New Shipper Review memorandum, “Cost of Production and Constructed Value Calculation Adjustments for the Preliminary Results - Patagonik S.A. Beekeeper Respondents.” See also Honey from Argentina: Preliminary Results of New Shipper Review, 71 FR 67850 (November 24, 2006); unchanged in Honey from Argentina: Final Results of New Shipper Review, 72 FR 19177 (April 17, 2007).

2. We calculated land rental cost for Beekeeper 1 based on the market value of honey as payment-in-kind for land use.

3. We adjusted Beekeeper 2's rent costs to reflect the market value for bartered honey.

For additional details, see Memorandum to Neal M. Halper, Director of Office of Accounting, “Cost of Production and Constructed Value Calculation Adjustments for the Final Results - Patagonik S.A.'s - Beekeeper Respondents / Collector of Honey,” dated June 29, 2009. We note the changes identified above have an effect on the final margin, and in fact we find sales below cost.

We also reclassified Patagonik's reported third country warranty expense as post-sale price adjustments granted by Patagonik in order to maintain good customer relations. See the accompanying Issues and Decision Memorandum at Comment 4 and the Analysis Memorandum for the Final Results of the Antidumping Duty Review of Honey from Argentina (A-357-812) for Patagonik S.A. (Patagonik).

Final Results of Review

We determine that the following dumping margins exist for the period December 1, 2006 through November 30, 2007.

Exporter | Weighted Average Margin (percentage)
ACA | 0.00
CIPSA | 0.77²
Patagonik S.A. | 0.77
Seylinco | 0.00
² This rate is based on the average of the margins calculated in this review, other than those which were zero, de minimis, or based on total facts available.

Assessment

The Department shall determine, and CBP shall assess, antidumping duties on all appropriate entries. In accordance with 19 CFR 351.212(b)(1), we have calculated duty assessment rates which will be applied to all ACA, CIPSA,³ Patagonik, and Seylinco entries made during the POR. The Department intends to issue appropriate assessment instructions directly to CBP 15 days after publication of these final results of review.

³ The assessment rate for CIPSA will be the same as the cash deposit rate assigned to that company.

The Department clarified its automatic assessment regulation on May 6, 2003 (68 FR 23954). This clarification will apply to entries of subject merchandise during the POR produced by companies included in these final results of review for which the reviewed companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective upon publication of the final results of this administrative review for all shipments of the subject merchandise entered, or withdrawn from warehouse, for consumption on or after the publication date of these final results, consistent with section 751(a)(1) of the Act: (1) for the companies covered by this review, the cash deposit rate will be the rate listed above except for Seylinco, which is revoked from the order; (2) if the exporter is not a firm covered in this review, but was covered in a previous review or the original less than fair value (LTFV) investigation, the cash deposit rate will continue to be the company-specific rate published for the most recent period; (3) if the exporter is not a firm covered in this review, a prior review, or the original LTFV investigation, but the manufacturer is, the cash deposit rate will be the rate established for the most recent period for the manufacturer of the merchandise; and (4) if neither the exporter nor the manufacturer is a firm covered in this or any previous review conducted by the Department, the cash deposit rate will continue to be 30.24 percent, which is the all-others rate established in the LTFV investigation. See Notice of Antidumping Duty Order; Honey From Argentina, 66 FR 63672 (December 10, 2001). These deposit requirements, when imposed, shall remain in effect until publication of the final results of the next administrative review.

Notification to Interested Parties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this determination and notice in accordance with sections 751(a)(1) and 777(i)(1) of the Tariff Act.

Dated: June 29, 2009.
John M. Andersen,
Acting Deputy Assistant Secretary for Antidumping and Countervailing Duty Operations.

Appendix - List of Comments in the Issues and Decision Memorandum

Comment 1: Revocation of the Order with Respect to Seylinco, S.A. (Seylinco)

Comment 2: Patagonik S.A.'s (Patagonik's) Proposed Change to Reported Honey Color

Comment 3: Use of Facts Available for Patagonik

Comment 4: Treatment of Patagonik's U.K Warranty Expense

Comment 5: Treatment of Asociación de Cooperativas Argentinas' (ACA's) Testing Expenses

Comment 6: Appropriate Margin to Assign to Compañía Inversora Platense S.A. (CIPSA)

[FR Doc. E9-15965 Filed 7-6-09; 8:45 am]

BILLING CODE 3510-DS-S